DEPARTMENT OF HOMELAND SECURITY

Coast Guard

33 CFR Parts 5, 70, 80, 101, 104, 105, 106, 115, 117, 162, 165, and 174

46 CFR Parts 1, 96, 160, 161, 162, 163, 173, and 178

[Docket No. USCG-2022-0323]

Navigation and Navigable Waters, and Shipping; Technical, Organizational, and Conforming Amendments

AGENCY: Coast Guard, Department of Homeland Security (DHS).

ACTION: Final rule.

SUMMARY: This final rule makes non-substantive technical, organizational, and conforming amendments to existing Coast Guard regulations. This rule is a continuation of our practice of periodically issuing rules to keep our regulations up-to-date and accurate. This rule will have no substantive effect on the regulated public.

DATES: This final rule is effective February 16, 2023.

ADDRESSES: To view documents mentioned in this preamble as being available in the docket, go to https://www.regulations.gov, type USCG-2022-0323 in the search box and click “Search.” Next, in the Document Type column, select “Supporting & Related Material.”

FOR FURTHER INFORMATION CONTACT: For information about this document call or email Ms. Victoria Phoenix, Coast Guard; telephone 202-372-3744, email Victoria.Phoenix@uscg.mil.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

CFR Code of Federal Regulations

CG-ENG Coast Guard Office of Design and Engineering Standards

DHS Department of Homeland Security

FR Federal Register

NVIC Navigation and Vessel Inspection Circular

OMB Office of Management and Budget

OMR Organization Modification Request

§ Section

URL Uniform Resource Locator

U.S.C. United States Code

II. Regulatory History

We did not publish a notice of proposed rulemaking for this rule. Under Title 5 of the United States Code (U.S.C.), Section 553(b)(A), the Coast Guard finds that this final rule is exempt from notice and public comment rulemaking requirements because these changes involve rules of agency organization, procedure, or practice. In addition, the Coast Guard finds that notice and comment procedures are unnecessary for this final rule under 5 U.S.C. 553(b)(B), as this rule consists of only technical and editorial corrections and these changes will have no substantive effect on the public. Under 5 U.S.C. 553(d)(3), the Coast Guard finds that, for the same reasons, good cause exists for making this final rule effective upon publication in the Federal Register.

III. Basis and Purpose

This final rule, which becomes effective on February 16, 2023, makes technical and editorial corrections throughout titles 33 and 46 of the Code of Federal Regulations (CFR). These changes are necessary to update authority citations, correct errors, update contact information, and make other non-substantive amendments that improve the clarity of the CFR. This rule does not create or change any substantive requirements.

This final rule is issued under the authority of 5 U.S.C. 552(a) and 553; 14 U.S.C. 102 and 503; Department of Homeland Security (DHS) Delegation No. 00170.1, Revision No. 01.3; and authorities listed at the end of this rule for each CFR part this rule amends.

IV. Discussion of the Rule

The Coast Guard periodically issues technical, organizational, and conforming amendments to existing regulations in titles 33 and 46 of the CFR. These technical amendments provide the public with accurate and current regulatory information, but do not change the effect of any Coast Guard regulations on the public.

A. Authority Citation Updates

This rule updates the authority citations in 33 CFR parts 101, 104, 105, 106, 117, 162, and 174 and 46 CFR parts 1, 96, 160, 161, 162, 163, 173, and 178. Specifically, this rule implements the updates to DHS Delegation No. 00170.1, Revision No. 01.3 in 33 CFR parts 101, 104, 105, 106, 117, 162, and 174 and 46 CFR parts 1, 96, 160, 161, 162, 163, 173, and 178. It also reflects the repeal of 46 U.S.C. 5115 by removing that section from the authority citation for 46 CFR part 163. And this rule removes the repealed 46 U.S.C. 4104 from the authority citation for 46 CFR part 162.

B. Technical Amendments to Title 33 of the CFR

In § 5.9, this rule updates the website at which the public may obtain copies of the Auxiliary Manual (Commandant Instruction M16790.1(series)) and the Auxiliary Operations Policy Manual (Commandant Instruction M16798.3(series)). This rule revises the web address in this section to “https://www.dcms.uscg.mil/directives.”

In §§ 70.01-1 and 70.05-20, this rule updates an outdated cross-reference from 33 CFR part 68 to 33 CFR part 118. This reflects the redesignation of 33 CFR part 68 (governing bridge lighting and other signals). On June 11, 1975, the Coast Guard determined that all bridge regulations be grouped in 33 CFR chapter I, subchapter J, “Bridges,” so 33 CFR part 68 was redesignated as 33 CFR part 118.

In § 80.135, this rule updates a reference to “Canal Breakwater Light 4” in the demarcation lines set by the Convention on the International Regulations for Preventing Collisions at Sea, 1972 for the Atlantic Coast from Hull, MA, to Race Point, MA. The reference now reads as “Canal Breakwater Light 6” to match the marker that was redesignated by the project to realign the Aids to Navigation channel.

In §§ 101.105 and 101.510, this rule updates references to Navigation and Vessel Inspection Circular (NVIC) 09-02. This rule replaces “change 2” in § 101.105 and “change 3” in § 101.510 with “series” to ensure that the public will always be directed to the most current version of this circular (which is currently on change 5). This rule also updates the link for the website that the public can use to obtain this or other NVICs.

In §§ 104.267, 105.257, and 106.262, this rule replaces the outdated link provided for the Coast Guard's Homeport website, “http://homeport.uscg.mil” with the new link, “https://homeport.uscg.mil.”

In § 105.400, this rule removes irrelevant language that contained a broken website link for submitting facility security plans electronically. The link provided did not direct the user to a functioning web page, so both the link and the sentence containing it were removed.

In § 115.60(b)(2), this rule modernizes the language to include email addresses and more closely align regulations with the requirements for public meetings in 40 CFR 1506.6(b)(3). This rule also clarifies the Coast Guard's options for publishing and posting notices of public meetings.

In § 117.237(b)(2), this rule updates the phone number of the Harrisburg, PA Dispatcher's Office to “470-463-1102.”

In § 117.664, this rule corrects the misspelled “Rainer” to “Ranier.”

In § 162.75(b)(5)(vi), this rule updates the phone number for the Captain of the Port, New Orleans to “504-365-2200 or 504-365-2545.”

In Table 5 to § 165.801, this rule replaces “Riverfront Marketing Group” in line 3 with “Go 4th New Orleans” to maintain consistency with a sponsor's submission on form CG-4423, Application for Approval of Marine Event.

In § 165.1334, this rule corrects “BSU” to “Base” in the section heading to reflect the proper name of the listed Coast Guard base.

In § 174.31(c), this rule removes the words “The payment” and adds the words “Proof of payment” to clarify and align with the wording in 46 U.S.C. 12307(2).

C. Technical Amendments to Title 46 of the CFR

In § 1.01-10(e)(1), this rule replaces the text to reflect changes brought on by the 2018 Organization Modification Request (OMR). The 2018 OMR resulted in changes in which offices are responsible for specific functions, created the Coast Guard's Flag State Control Division (CG-CVC-4), and eliminated the Coast Guard's Human Element and Ship Design Division (CG-ENG-1). This rule's revision of § 1.01-10(e)(1) better defines the Coast Guard Office of Design and Engineering Standards (CG-ENG) and align the functional statement with CG-ENG's Strategic Business Plan.

In § 96.07-5(a), this rule replaces “shall” with “must” to fix a grammatical inaccuracy and to follow Federal plain language guidelines.

In §§ 160.051-5(a), 160.076-11(a), 160.077-5(a), 160.115-5(a), 160.132-5(a), 160.133-5(a), 160.135-5(a), 160.151-5(a), 160.156-5(a), 160.170-5(a), and 160.176-4(a), this rule removes outdated instructions and replaces it with updated locations, websites, and email addresses. These changes conform to the Office of the Federal Register's requirements for writing “incorporation by reference” sections.

In §§ 161.010-4(a), 162.017-6(a), 162.018-8(a), and 162.050-7(a), this rule corrects a mistake from a previous rulemaking and replaces “submitting the VSP electronically” with “electronic submittals.” “VSP” means “vessel security plan,” which is unrelated to approving floating electric water light, safety relief valve, pressure-vacuum valve, or pollution prevention equipment. In these same sections, this rule also updates the Uniform Resource Locator (URL) for submitting vessel security plans electronically to read as “https://www.uscg.mil/HQ/MSC.”

In § 173.095(b) and (d), this rule updates the equation. The way that the equation is written in the CFR, it is unclear whether the quantity “(P×D)” is to be multiplied by ⅔ or raised to the power of ⅔, so this rule corrects “⅔” to “^⅔”. The public regularly contacted the Marine Safety Center requesting clarification on how to calculate the equation. This rule clarifies that the quantity (P×D) is to be raised to the power of ⅔.

In § 178.450(a), this rule corrects the typo “Basis Drainage” to “Basic Drainage” to help clear confusion for readers and to match the rest of the text, which uses “Basic Drainage.”

V. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

One additional Executive order was published to promote the goals of Executive Order 13610 (Identifying and Reducing Regulatory Burdens). Executive Order 13610 aims to modernize the regulatory systems and to reduce unjustified regulatory burdens and costs on the public.

The Office of Management and Budget (OMB) has not designated this rule a significant regulatory action under section 3(f) of Executive Order 12866. A regulatory analysis follows.

This rule involves non-substantive technical amendments and internal agency practices and procedures; it will not impose any additional costs. The technical amendments in this rule fit into categories that involve (1) correcting inadvertent typographical errors in the CFR; (2) modifying existing language in the CFR by addition or subtraction to improve the readability or clarity of regulations; (3) removing irrelevant information, such as expired regulatory provisions or cancelled reference material, and replacing outdated regulatory information with current information where applicable; and (4) revising office contact information and mailing addresses. The Coast Guard does not expect that there will be any additional costs conferred on the public or the Federal Government because none of the technical and editorial changes included in this rule will change existing regulatory requirements. A summary of these amendments by category and by CFR title and section are presented below in table 1.

The unquantified benefits of the non-substantive technical amendments are increased accuracy of regulatory information by correcting erroneous information, and improved readability and clarity of regulations by removing redundant or confusing language and by removing expired or cancelled provisions that are no longer relevant. In addition, correcting technical items such as office contact details and location coordinates will improve the ability to reference and contact the correct entities.

Table 1—Summary of Regulatory Changes by CFR Title and Section
CFR title | CFR section | Description of changes | Economic impact
33 | §§ 70.01-1, 70.05-20, 80.135(b), 115.60(b)(2) | Adds clarifying language and removes redundant, confusing, or incorrect language. | Improves readability and clarity of regulations.
46 | §§ 96.07-5(a), 161.010-4(a) | Adds clarifying language and removes redundant, confusing, or incorrect language. | Improves readability and clarity of regulations.
46 | §§ 160.051-5(a), 160.076-11(a), 160.077-5(a), 160.115-5(a), 160.132-5(a), 160.133-5(a), 160.135-5(a), 160.151-5(a), 160.156-5(a), 160.170-5(a), 160.176-4(a) | Removes outdated instructions and replaces it with updated locations, websites, and email addresses. | Conforms to the Office of the Federal Register's requirements for wording centralized sections for incorporation by reference.
33 | §§ 117.664, 165.1334, 174.31(c) | Improves the accuracy of regulatory information by correcting erroneous information. | Corrects various typographical errors.
46 | § 173.095(b) and (d) | Improves the accuracy of regulatory information by correcting erroneous information concerning an equation. | Corrects various typographical errors. And, reduces the public from contacting the Marine Safety Center requesting clarification on how to calculate the equation.
33 | § 165.801 Table 5, Row 3 | Removes or replaces expired or cancelled references or provisions. | Improves readability by removing or replacing irrelevant and outdated information.
46 | § 1.01-10(e)(1) | Reflects changes brought on by the 2018 Organization Modification Request (OMR). | Improves readability by removing or replacing irrelevant and outdated information.
46 | §§ 162.017-6(a), 162.018-8(a), 162.050-7(a) | Removes or replaces expired or cancelled references or provisions. | Improves readability by removing or replacing irrelevant and outdated information.

B. Small Entities

Under the Regulatory Flexibility Act, 5 U.S.C. 601-612, we have considered whether this rule would have a significant economic impact on a substantial number of small entities. The term “small entities” comprises small businesses, not-for-profit organizations that are independently owned and operated and are not dominant in their fields, and governmental jurisdictions with populations of less than 50,000.

Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

D. Collection of Information

This rule calls for no new or revised collection of information under the Paperwork Reduction Act of 1995, 44 U.S.C. 3501-3520.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under DHS Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This rule is categorically excluded under paragraph L54 of Appendix A, Table 1 of DHS Instruction Manual 023-01-001-01, Rev 1. Paragraph L54 pertains to regulations which are administrative or procedural, such as those updating addresses or establishing application procedures. This rule involves making non-substantive technical, organizational, and conforming amendments to existing Coast Guard regulations to keep our regulations up-to-date and accurate.

List of Subjects

33 CFR Part 5

Volunteers.

33 CFR Part 70

Navigation (water), Penalties.

33 CFR Part 80

Navigation (water), Treaties, Waterways.

33 CFR Part 101

Harbors, Maritime security, Reporting and recordkeeping requirements, Security measures, Vessels, Waterways.

33 CFR Part 104

Maritime security, Reporting and recordkeeping requirements, Security measures, Vessels.

33 CFR Part 105

Maritime security, Navigation (water), Reporting and recordkeeping requirements, Security measures, Waterways.

33 CFR Part 106

Continental shelf, Maritime security, Reporting and recordkeeping requirements, Security measures.

33 CFR Part 115

Administrative practice and procedure, Bridges, Reporting and recordkeeping requirements.

33 CFR Part 117

Bridges.

33 CFR Part 162

Navigation (water), Waterways.

33 CFR Part 165

Harbors, Marine safety, Navigation (water), Reporting and recordkeeping requirements, Security measures, Waterways.

33 CFR Part 174

Intergovernmental relations, Marine safety, Reporting and recordkeeping requirements.

46 CFR Part 1

Administrative practice and procedure, Organization and functions (Government agencies), Reporting and recordkeeping requirements.

46 CFR Part 96

Cargo vessels, Marine safety, Navigation (water).

46 CFR Part 160

Incorporation by reference, Marine safety, Reporting and recordkeeping requirements.

46 CFR Part 161

Fire prevention, Marine safety, Reporting and recordkeeping requirements.

46 CFR Part 162

Fire prevention, Marine safety, Oil pollution, Reporting and recordkeeping requirements.

46 CFR Part 163

Marine safety.

46 CFR Part 173

Marine safety, Vessels.

46 CFR Part 178

Marine safety, Passenger vessels.

For the reasons discussed in the preamble, the Coast Guard amends 33 CFR part 5, 70, 80, 101, 104, 105, 106, 115, 117, 162, 165, and 174 and 46 CFR parts 1, 96, 160, 161, 162, 163, 173, and 178 as follows:

Title 33—Navigation and Navigable Waters

PART 5—COAST GUARD AUXILIARY

1. The authority citation for part 5 continues to read as follows:

Authority: 14 U.S.C. 503, 3901, 3902, 3903, 3904, 3905, 3907, 3908, 3909, 3910, 3911, 3912, 3913, 4102.

§ 5.9 [Amended]

2. In § 5.9, remove the text “http://www.uscg.mil/auxiliary/publications/comdtinst/” and add, in its place, the text “https://www.dcms.uscg.mil/directives”.

PART 70—INTERFERENCE WITH OR DAMAGE TO AIDS TO NAVIGATION

3. The authority citation for part 70 continues to read as follows:

Authority: 33 U.S.C. 408, 411, 412; 14 U.S.C. 501, 503, 543, 545, 546.

§ 70.01-1 [Amended]

4. In § 70.01-1, remove the text “67, or 68 of this subchapter” and add, in its place, the text “67, or 118 of this chapter”.

§ 70.05-20 [Amended]

5. In § 70.05-20, remove the text “Part 64, 66, 67, or 68 of this subchapter” and “46 CFR 4” and add, in their places, the text “part 64, 66, 67, or 118 of this chapter” and “46 CFR part 4”, respectively.

PART 80—COLREGS DEMARCATION LINES

6. The authority citation for part 80 continues to read as follows:

Authority: 14 U.S.C. 102, 503; 33 U.S.C. 151(a).

§ 80.135 [Amended]

7. In § 80.135(b), remove the text “Light 4” and add, in its place, the text “Light 6”.

PART 101—MARITIME SECURITY: GENERAL

8. The authority citation for part 101 is revised to read as follows:

Authority: 46 U.S.C. 70034, 70051, 70052, Chapter 701; E.O. 12656, 53 FR 47491, 3 CFR, 1988 Comp., p. 585; 33 CFR 1.05-1, 6.04-11, 6.14, 6.16, and 6.19; DHS Delegation No. 00170.1, Revision No. 01.3.

§ 101.105 [Amended]

9. In § 101.105, amend the definition of “Area Maritime Security (AMS) Committee” as follows:

a. Remove the text “change 2” and add, in its place, the text “series”; and

b. Remove the text “http://www.uscg.mil/hq/cg5/nvic/” and add, in its place, the text “https://www.dco.uscg.mil/Our-Organization/NVIC/”.

§ 101.510 [Amended]

10. Amend § 101.510 as follows:

a. In the introductory text, remove the text “http://www.uscg.mil/hq/g-m/nvic” and add, in its place, the text “https://www.dco.uscg.mil/Our-Organization/NVIC/”; and

b. In paragraph (a), remove the text “change 3” and add, in its place, the text “series”.

PART 104—MARITIME SECURITY: VESSELS

11. The authority citation for part 104 is revised to read as follows:

Authority: 46 U.S.C. 70051, 70116, Chapter 701; 33 CFR 1.05-1, 6.04-11, 6.14, 6.16, and 6.19; DHS Delegation No. 00170.1, Revision No. 01.3.

§ 104.267 [Amended]

12. In § 104.267(b)(2) introductory text, remove the text “http://homeport.uscg.mil” and add, in its place, the text “https://homeport.uscg.mil”.

PART 105—MARITIME SECURITY: FACILITIES

13. The authority citation for part 105 is revised to read as follows:

Authority: 46 U.S.C. 70034, 70103, 70116; sec. 811, Pub. L. 111-281, 124 Stat. 2905 (46 U.S.C. 70103 note); 33 CFR 1.05-1, 6.04-11, 6.14, 6.16, and 6.19; DHS Delegation No. 00170.1, Revision No. 01.3.

§ 105.257 [Amended]

14. In § 105.257(b)(2) introductory text, remove the text “http://homeport.uscg.mil” and add, in its place, the text “https://homeport.uscg.mil”.

§ 105.400 [Amended]

15. In § 105.400(b), remove the second sentence.

PART 106—MARINE SECURITY: OUTER CONTINENTAL SHELF (OC) FACILITIES

16. The authority citation for part 106 is revised to read as follows:

Authority: 46 U.S.C. 70051, 70116, Chapter 701; 33 CFR 1.05-1, 6.04-11, 6.14, 6.16, and 6.19; DHS Delegation No. 00170.1, Revision No. 01.3.

§ 106.262 [Amended]

17. In § 106.262(b)(2) introductory text, remove the text “http://homeport.uscg.mil” and add, in its place, the text “https://homeport.uscg.mil”.

PART 115—BRIDGE LOCATIONS AND CLEARANCES; ADMINISTRATIVE PROCEDURES

18. The authority citation for part 115 continues to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, title V, sec. 502, 60 Stat. 847, as amended (33 U.S.C. 525); 86 Stat. 732 (33 U.S.C. 535); 14 U.S.C. 503.

19. In § 115.60, revise paragraph (b)(2) to read as follows:

§ 115.60 Procedures for handling applications for bridge permits.

* * * * *

(b) * * *

(2) Notice of the public meeting will be published in the Federal Register. Notice of the meeting is also emailed or mailed to State, county, municipal authorities, and all other known interested parties. It may also be posted in public places in the vicinity of the project or published in local publications and through local media channels, or both.

* * * * *

PART 117—DRAWBRIDGE OPERATION REGULATIONS

20. The authority citation for part 117 is revised to read as follows:

Authority: 33 U.S.C. 499; 33 CFR 1.05-1; and DHS Delegation No. 00170.1, Revision No. 01.3.

§ 117.237 [Amended]

21. In § 117.237(b)(2), remove the text “(717) 541-2140” and add, in its place, the text “470-463-1102”.

§ 117.664 [Amended]

22. In § 117.664, remove the word “Rainer” and add, in its place, the word “Ranier”.

PART 162—INLAND WATERWAYS NAVIGATION REGULATIONS

23. The authority citation for part 162 is revised to read as follows:

Authority: 46 U.S.C. 70034; DHS Delegation No. 00170.1, Revision No. 01.3.

§ 162.75 [Amended]

24. In § 162.75(b)(5)(vi), remove the text “504-846-5923” and add, in its place, the text “504-365-2200 or 504-365-2545”.

PART 165—REGULATED NAVIGATION AREAS AND LIMITED ACCESS AREAS

25. The authority citation for part 165 continues to read as follows:

Authority: 46 U.S.C. 70034, 70051, 70124; 33 CFR 1.05-1, 6.04-1, 6.04-6, and 160.5; Department of Homeland Security Delegation No. 00170.1, Revision No. 01.3.

26. In § 165.801, revise row 3 in table 5 to read as follows:

§ 165.801 Annual fireworks displays and other events in the Eighth Coast Guard District requiring safety zones.

* * * * *

Table 5 of § 165.801—Sector New Orleans Annual and Recurring Safety Zones
Date | Sponsor/name | Sector New Orleans location | Safety zone
* * * * * * *
3. July 4th | Go 4th New Orleans/Independence Day Celebration | Mississippi River, New Orleans, LA | Mississippi River mile marker 94.3 to 95.3, New Orleans, LA.
* * * * * * *

* * * * *

§ 165.1334 [Amended]

27. In § 165.1334, the heading is amended by removing the text “BSU” and adding, in its place, the text “Base”.

PART 174—STATE NUMBERING AND CASUALTY REPORTING SYSTEMS

28. The authority citation for part 174 is revised to read as follows:

Authority: 46 U.S.C. 6101 and 12302; DHS Delegation No. 00170.1, Revision No. 01.3.

§ 174.31 [Amended]

29. In § 174.31(c), remove the words “The payment” and add, in its place, the words “Proof of payment”.

Title 46—Shipping

PART 1—ORGANIZATION, GENERAL COURSE AND METHODS GOVERNING MARINE SAFETY FUNCTIONS

30. The authority citation for part 1 is revised to read as follows:

Authority: 5 U.S.C. 552; 6 U.S.C. 111, 468, 552; 14 U.S.C. 503; 46 U.S.C. 7701; 46 U.S.C. Chapter 93; DHS Delegation No. 00170.1, Revision No. 01.3; § 1.01-35 also issued under the authority of 44 U.S.C. 3507; and § 1.03-55 also issued under the authority of 46 U.S.C. 3306(j).

31. In § 1.01-10, revise paragraph (e)(1) to read as follows:

§ 1.01-10 Organization.

* * * * *

(e) * * *

(1) The Chief, Office of Design and Engineering Standards (CG-ENG), at Headquarters, under the direction of the Assistant Commandant for Prevention Policy (CG-5P) and the Director of Commercial Regulations and Standards (CG-5PS), develops and maintains national regulations and standards that govern the safe design, engineering, and construction of ships and shipboard equipment; establishes policy, provides technical clarifications, and resolves appeals; and represents the United States at the International Maritime Organization (IMO) and is actively engaged in standards committees and classification society rules committees in support of marine safety, security and environmental stewardship.

* * * * *

PART 96—VESSEL CONTROL AND MISCELLANEOUS SYSTEMS AND EQUIPMENT

32. The authority citation for part 96 is revised to read as follows:

Authority: 46 U.S.C. 3306; E.O. 12234, 45 FR 58801, 3 CFR, 1980 Comp., p. 277; DHS Delegation No. 00170.1, Revision No. 01.3.

§ 96.07-5 [Amended]

33. In § 96.07-5(a), remove the text “shall” and “Subpart 90.35 of this subchapter” and add, in their places, the text “must” and “46 CFR part 90, subpart 90.35”, respectively.

PART 160—LIFESAVING EQUIPMENT

34. The authority citation for part 160 is revised to read as follows:

Authority: 46 U.S.C. 2103, 3103, 3306, 3703, 4102, 4302, and 4502; and DHS Delegation No. 00170.1, Revision No. 01.3.

35. In § 160.051-5, revise paragraph (a) to read as follows:

§ 160.051-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the source in the following paragraph of this section.

* * * * *

36. In § 160.076-11, revise paragraph (a) to read as follows:

§ 160.076-11 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the source in the following paragraph of this section.

* * * * *

37. In § 160.077-5, revise paragraph (a) to read as follows:

§ 160.077-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

38. In § 160.115-5, revise paragraph (a) to read as follows:

§ 160.115-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the source in the following paragraph of this section.

* * * * *

39. In § 160.132-5, revise paragraph (a) to read as follows:

§ 160.132-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

40. In § 160.133-5, revise paragraph (a) to read as follows:

§ 160.133-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

41. In § 160.135-5, revise paragraph (a) to read as follows:

§ 160.135-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

42. In § 160.151-5, revise paragraph (a) to read as follows:

§ 160.151-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

43. In § 160.156-5, revise paragraph (a) to read as follows:

§ 160.156-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

44. In § 160.170-5, revise paragraph (a) to read as follows:

§ 160.170-5 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

45. In § 160.176-4, revise paragraph (a) to read as follows:

§ 160.176-4 Incorporation by reference.

(a) Certain material is incorporated by reference into this part with the approval of the Director of the Federal Register under 5 U.S.C. 552(a) and 1 CFR part 51. All approved incorporation by reference (IBR) material is available for inspection at Coast Guard Headquarters and at the National Archives and Records Administration (NARA). Contact the Coast Guard at: Commandant (CG-ENG-4), U.S. Coast Guard Stop 7509, 2703 Martin Luther King Jr. Avenue SE, Washington, DC 20593-7509; or email typeapproval@uscg.mil or visit https://www.dco.uscg.mil/CG-ENG-4/. For information on the availability of this material at NARA, email: fr.inspection@nara.gov, or go to: www.archives.gov/federal-register/cfr/ibr-locations.html. The material may be obtained from the sources in the following paragraphs of this section.

* * * * *

PART 161—ELECTRICAL EQUIPMENT

46. The authority citation for part 161 is revised to read as follows:

Authority: 46 U.S.C. 3306, 3703, 4302; E.O. 12234, 45 FR 58801, 3 CFR, 1980 Comp., p. 277; DHS Delegation No. 00170.1, Revision No. 01.3.

§ 161.010-4 [Amended]

47. In § 161.010-4(a), remove the text “submitting the VSP electronically” and “http://www.uscg.mil/HQ/MSC” and add, in their places, the text “electronic submittals” and “https://www.uscg.mil/HQ/MSC”, respectively.

PART 162—ENGINEERING EQUIPMENT

48. The authority citation for part 162 is revised to read as follows:

Authority: 33 U.S.C. 1321(j), 1903; 46 U.S.C. 3306, 3703, 4302; E.O. 12234, 45 FR 58801, 3 CFR, 1980 Comp., p. 277; E.O. 12777, 56 FR 54757, 3 CFR, 1991 Comp., p. 351; DHS Delegation No. 00170.1, Revision No. 01.3.

§ 162.017-6 [Amended]

49. In § 162.017-6(a), remove the text “submitting the VSP electronically” and “http://www.uscg.mil/HQ/MSC” and add, in their places, the text “electronic submittals” and “https://www.uscg.mil/HQ/MSC”, respectively.

§ 162.018-8 [Amended]

50. In § 162.018-8(a), remove the text “submitting the VSP electronically” and “http://www.uscg.mil/HQ/MSC” and add, in their places, the text “electronic submittals” and “https://www.uscg.mil/HQ/MSC”, respectively.

§ 162.050-7 [Amended]

51. In § 162.050-7(a), remove the text “submitting the VSP electronically” and “http://www.uscg.mil/HQ/MSC” and add, in their places, the text “electronic submittals” and “https://www.uscg.mil/HQ/MSC”, respectively.

PART 163—CONSTRUCTION

52. The authority citation for part 163 is revised to read as follows:

Authority: 46 U.S.C. 3306, 3703; E.O. 12234, 45 FR 58801, 3 CFR, 1980 Comp., p. 277; DHS Delegation No. 00170.1, Revision No. 01.3.

PART 173—SPECIAL RULES PERTAINING TO VESSEL USE

53. The authority citation for part 173 is revised to read as follows:

Authority: 43 U.S.C. 1333; 46 U.S.C. 2113, 3306, 5115; E.O. 12234, 45 FR 58801, 3 CFR, 1980 Comp., p. 277; DHS Delegation No. 00170.1, Revision No. 01.3.

54. In § 173.095, revise the equations in paragraphs (b) and (d) to read as follows:

§ 173.095 Towline pull criterion.

* * * * *

(b) * * *

* * * * *

PART 178—INTACT STABILITY AND SEAWORTHINESS

55. The authority citation for part 178 is revised to read as follows:

Authority: 43 U.S.C. 1333; 46 U.S.C. 2103, 3306, 3703; E.O. 12234, 45 FR 58801, 3 CFR, 1980 Comp., p. 277; DHS Delegation No. 00170.1, Revision No. 01.3.

§ 178.450 [Amended]

56. In § 178.450(a), remove the text “Basis Drainage” and add, in its place, the text “Basic Drainage”.

Dated: January 25, 2023.
Michael Cunningham,
Chief, Office of Regulations and Administrative Law.

[FR Doc. 2023-01938 Filed 2-15-23; 8:45 am]

BILLING CODE 9110-04-P